NATIONAL SCIENCE FOUNDATION

National Science Board; Sunshine Act Meetings; Notice (Subject Matter Revised From Earlier Notice)

The National Science Board's Task Force on Support of Mid-Scale and Multi-investigator Research, of the Committee on Programs and Plans, pursuant to NSF regulations (45 CFR part 614), the National Science Foundation Act, as amended (42 U.S.C. 1862n-5), and the Government in the Sunshine Act (5 U.S.C. 552b), hereby gives notice in regard to the scheduling of a teleconference meeting for the transaction of National Science Board business and other matters specified, as follows:

Date and Time: August 12, 2010, at 3 p.m. EDT.

Subject Matter: Review and Discussion of Current Mid-Scale Research Funding Support at NSF, Review and Discussion of Draft charge to the Task Force on Support of Mid-Scale and Multi-investigator Research, and Future Plans.

Status: Open.

Location: This meeting will be held by teleconference originating at the National Science Board Office, National Science Foundation, 4201 Wilson Blvd., Arlington, VA 22230. A room will be available for the public to listen-in on this teleconference meeting. All visitors must contact the Board Office at least 24 hours prior to the meeting to arrange for a visitor's badge and to obtain the room number. Call 703-292-7000 to request the room number and your badge, which will be ready for pick-up at the visitor's desk on the day of the meeting. All visitors must report to the NSF visitor desk at the 9th and N. Stuart Streets entrance to receive their visitor's badge on the day of the teleconference.

Updates and Point of Contact: Please refer to the National Science Board Web site (http://www.nsf.gov/nsb/notices/) for information or schedule updates, or contact: Matt Wilson, National Science Foundation, 4201 Wilson Blvd., Arlington, VA 22230. Telephone: (703) 292-7000.

Daniel A. Lauretano,
Counsel to the National Science Board.

[FR Doc. 2010-19432 Filed 8-3-10; 4:15 pm]

BILLING CODE 7555-01-P